DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground. Modified | Communities affected
Codington County, South Dakota and Incorporated Areas
Docket No.: FEMA-B-7755
East Branch Roby Creek | Approximately 200 feet east of 11th Street Northeast | +1,767 | Unincorporated Areas of Codington County, City of Watertown.
| 14th Avenue Northeast | +1,777
East Branch Roby Creek | Approximately 400 feet west of 7th Street Northeast | +1,760 | City of Watertown.
| Approximately 200 feet west of 11th Street Northeast | +1,765 | Unincorporated Areas of Codington County.
Lake Kampeska | Approximately 200 feet northeast of intersection of 448th Avenue and U.S. Highway 212 | +1,725 | Unincorporated Areas of Codington County, City of Watertown.
Lake Kampeska | Approximately 100 feet west of intersection of 452nd Avenue and Stadheim Drive | +1,725 | City of Watertown, Unincorporated Areas of Codington County.
Pelican Lake | Approximately 700 feet north of intersection of 174th Street and 452nd Avenue | +1,717 | Unincorporated Areas of Codington County, City of Watertown.
Pelican Lake | Junction of 21st Street SW and 12th Avenue SW | +1,717 | City of Watertown, Unincorporated Areas of Codington County.
Roby Creek | Approximately 4,500 feet downstream from U.S. Highway 212 | +1,715 | City of Watertown.
| Approximately 100 feet east of U.S. Highway 81 | +1,770
* National Geodetic Vertical Datum.
+ North American Vertical Datum.
# Depth in feet above ground.
ADDRESSES
City of Watertown
Maps are available for inspection at the Watertown City Hall, 23 Second St., NE., Watertown, South Dakota 57201.
Unincorporated Areas of Codington County
Maps are available for inspection at the Codington County Planning and Zoning Department, Codington County Extension Complex, 1910 West Kemp Avenue, Watertown, South Dakota 57201-3048.
Grainger County, Tennessee, and Incorporated Areas
Docket No.: FEMA B-7749
Lea Creek | Approximately 2,800 feet upstream U.S. Highway 11 | +913 | Unincorporated Areas of Grainger County.
| Approximately 4,200 feet upstream U.S. Highway 11 | +913
Norris Lake | Approximately 5,200 feet downstream of the confluence of Black Fox Creek | +1032 | Unincorporated Areas of Grainger County.
| Approximately 2,500 feet downstream of U.S. Highway 25 | +1032
* National Geodetic Vertical Datum.
+ North American Vertical Datum.
# Depth in feet above ground.
ADDRESSES
Unincorporated Areas of Grainger County
Maps are available for inspection at Grainger County Courthouse, P.O. Box 126, Rutledge, TN 37861.

(Catalog of Federal Domestic Assistance No. 97.022, “Flood Insurance.”)

Dated: July 25, 2008.
Edward L. Connor,
Deputy Assistant Administrator for Insurance, Department of Homeland Security, Federal Emergency Management Agency.

[FR Doc. E8-18527 Filed 8-11-08; 8:45 am]

BILLING CODE 9110-12-P